DEPARTMENT OF COMMERCE

National Oceanic and Atmospheric Administration

50 CFR Part 679

[Docket No. 031125292-3292-01; I.D. 111703E]

Fisheries of the Exclusive Economic Zone Off Alaska; Gulf of Alaska; Proposed 2004 Harvest Specifications for Groundfish

AGENCY: National Marine Fisheries Service (NMFS), National Oceanic and Atmospheric Administration (NOAA), Commerce.

ACTION: Proposed 2004 harvest specifications for groundfish; request for comments.

SUMMARY: NMFS proposes 2004 harvest specifications for groundfish, reserves and apportionment thereof, Pacific halibut prohibited species catch (PSC) limits, for the groundfish fishery of the Gulf of Alaska (GOA). This action is necessary to establish harvest limits for groundfish during the 2004 fishing year. The intended effect of this action is to conserve and manage the groundfish resources in the GOA in accordance with the Magnuson-Stevens Fishery Conservation and Management Act (Magnuson-Stevens Act).

DATES: Comments must be received by January 5, 2004.

ADDRESSES: Comments must be sent to Sue Salveson, Assistant Regional Administrator, Sustainable Fisheries Division, Alaska Region, NMFS, P.O. Box 21668, Juneau, AK 99802, Attn: Lori Durall, or delivered to room 401 of the Federal Building, 709 West 9th Street, Juneau, AK. Comments also may be sent via facsimile (fax) to 907-586-7557. Comments will not be accepted if submitted via e-mail or Internet.

Copies of the final 2002 Stock Assessment and Fishery Evaluation (SAFE) reports, dated November 2002, are available from the North Pacific Fishery Management Council, West 4th Avenue, Suite 306, Anchorage, AK, 99510 or from its home page at http://www.fakr.noaa.gov/npfmc. Copies of the draft Environmental Assessment/Initial Regulatory Flexibility Analysis (EA/IRFA) prepared for this action are available from NMFS (see ADDRESSES) and comments must be received by January 5, 2004.

FOR FURTHER INFORMATION CONTACT: Tom Pearson, Sustainable Fisheries Division, Alaska Region, 907-481-1780 or e-mail at tom.pearson@noaa.gov.

SUPPLEMENTARY INFORMATION:

Background

NMFS manages the groundfish fisheries in the exclusive economic zone off Alaska under the Fishery Management Plan (FMP) for Groundfish of the GOA. The North Pacific Fishery Management Council (Council) prepared the FMP under the authority of the Magnuson-Stevens Act, 16 U.S.C. 1801, et seq. Regulations governing U.S. fisheries and implementing the FMP appear at 50 CFR parts 600 and 679.

The FMP and implementing regulations require NMFS, after consultation with the Council, to specify annually the total allowable catch (TAC) for each target species and for the “other species” category, the sum of which must be within the optimum yield (OY) range of 116,000 to 800,000 metric tons (mt) (§ 679.20(a)(1)(ii)). Regulations at § 679.20(c)(1) further require NMFS to publish annually, and solicit public comment on, proposed annual TACs, halibut PSC amounts, and seasonal allowances of pollock, and inshore/offshore Pacific cod. The proposed specifications set forth in Tables 1 through 9 of this document satisfy these requirements. For 2004, the sum of the proposed TAC amounts is 277,797 mt. Under § 679.20(c)(3), NMFS will publish the final specifications for 2004 after (1) considering comments received within the comment period (see DATES), (2) consulting with the Council at its December 2003 meeting, and (3) considering new information presented in the EA and the final 2003 SAFE reports prepared for the 2004 fisheries.

Regulations at § 679.20(c)(2)(i) provide that one-fourth of each proposed TAC and apportionment thereof (not including the reserves and the first seasonal allowances of pollock and Pacific cod), one-fourth of the proposed halibut PSC amounts, and the proposed first seasonal allowances of pollock and Pacific cod will become effective 0001 hours, Alaska local time (A.l.t.) January 1, 2004, on an interim basis and remain in effect until superseded by the final harvest specifications, which will be published in the Federal Register. Without interim specifications in effect on January 1, the groundfish fisheries would not be able to open on that date, which would result in disruption to the fishing industry. The interim harvest specifications will be published by NMFS in the Federal Register prior to January 1, 2004.

Proposed Acceptable Biological Catch (ABC) and TAC Specifications

The proposed ABC and TAC for each species or species group are based on the best available biological and socioeconomic information, including projected biomass trends, information on assumed distribution of stock biomass, and revised methods used to calculate stock biomass. The Council, its Advisory Panel (AP), and its Scientific and Statistical Committee (SSC) reviewed current biological and harvest information about the condition of groundfish stocks in the GOA in October 2003. Most of this information was initially compiled by the Council's GOA Plan Team (Plan Team) and is presented in the final 2002 SAFE report for the GOA groundfish fisheries, dated November 2002. The Plan Team annually produces such a document as the first step in the process of specifying TACs. The SAFE report contains a review of the latest scientific analyses and estimates of each species' biomass and other biological parameters, as well as summaries of the available information on the GOA ecosystem and the economic condition of the groundfish fisheries off Alaska. From these data and analyses, the Plan Team estimates an ABC for each species category. The 2002 SAFE report will be updated to include new information collected during 2003. Revised stock assessments will be made available by the Plan Team in November 2003 and will be included in the final 2003 SAFE report, which will be available in December 2003.

Based on the recommendations from the SSC for overfishing levels (OFLs) and from the SSC and AP for ABCs, the Council recommended the OFLs and ABCs for stocks in tiers 3 and above, except for pollock, be based on biomass projections as set forth in the 2002 SAFE report and estimates of groundfish harvests through the 2003 fishing year. The Council recommended that OFL and ABC levels for those stocks in tiers 4 and below, for which projections cannot be made, remain unchanged from 2003 levels (Table 1).

The SSC adopted the OFL and ABC recommendations from the Plan Team for all groundfish species. In the 2002 SAFE report, the ABC projection for 2004 is 65,400 mt for the combined Western, Central, and West Yakutat (W/C/WYK) GOA stock of pollock. The Plan Team did not endorse the ABC projection because the NMFS 2003 winter Shelikof survey estimates indicate that the biomass level is lower than projected and because it represents a substantial increase from the 2003 ABC. The Plan Team recommended that the 2003 ABC of 47,890 mt for the W/C/WYK pollock stock be rolled over in the proposed specifications given the apparent pessimistic survey results from the NMFS winter survey in the GOA. The SSC concurred with the pollock assessment recommendation that OFL and ABC levels be unchanged from 2003 levels until a formal stock assessment can be completed.

As in 2003, the SSC's, AP's and Council's recommendation for the method of apportioning the sablefish ABC among management areas includes commercial fishery and survey data. NMFS stock assessment scientists believe that the use of unbiased commercial fishery data reflecting catch-per-unit effort provides a desirable input for stock distribution assessments. The use of commercial fishery data is evaluated annually to assure that unbiased information is included in stock distribution models. The Council's recommendation for sablefish area apportionments also takes into account the prohibition on the use of trawl gear in the Southeast Outside (SEO) District of the Eastern GOA and makes available 5 percent of the combined Eastern GOA ABCs to trawl gear for use as incidental catch in other directed groundfish fisheries in the West Yakutat District.

The AP and Council recommended that the ABC for Pacific cod in the GOA be apportioned among regulatory areas based on the three most recent NMFS summer trawl surveys. As in previous years, the Plan Team, SSC, and Council recommended that total removals of Pacific cod from the GOA not exceed ABC recommendations. Accordingly, the Council recommended that the TACs be adjusted downward from the ABCs by amounts equal to the 2004 guideline harvest levels (GHL) established for Pacific cod by the State of Alaska (State) for the state managed fisheries in the GOA. The effect of the State's GHL on the Pacific cod TAC is discussed in greater detail below. For 2004, NMFS proposes to establish an A season directed fishing allowance (DFA) for the Pacific cod fisheries in the GOA based on the management area TACs less the recent average A season incidental catch of Pacific cod in each management area before June 10 (see § 679.20(d)(1)). The DFA and incidental catch before June 10 will be managed such that harvest in the A season will be no more than 60 percent of the annual TAC. Incidental catch taken after June 10 will continue to be taken from the B season TAC. NMFS believes that this action would better reflect the intention behind management measures analyzed in the 2001 Steller Sea Lion Protection Measures Supplemental Environmental Impact Statement to achieve temporal dispersion of the Pacific cod fisheries. NMFS believes that this action would reduce the likelihood of harvest exceeding 60 percent of the annual TAC in the A season (January 1 through June 10). The Council will continue to explore and analyze management alternatives for the Pacific cod fisheries through its Steller Sea Lion Mitigation Committee and in the development of its Gulf Rationalization Plan.

For 2004, the Councils recommended and NMFS proposed the ABCs listed in Table 1. These amounts reflect harvest amounts that are less than the specified overfishing amounts. The sum of 2004 ABCs for all assessed groundfish is 409,690 mt, which is lower than the 2003 ABC total of 416,600 mt.

Specification and Apportionment of TAC Amounts

The Council adopted the AP's proposals for the 2004 GOA TAC amounts. The Council recommended TACs that are equal to ABCs for pollock, deep-water flatfish, rex sole, sablefish, shortraker and rougheye rockfish, northern rockfish, pelagic shelf rockfish, thornyhead rockfish, demersal shelf rockfish, and Atka mackerel. The Council-recommended TACs that are less than the ABCs for Pacific cod, flathead sole, shallow-water flatfish, arrowtooth flounder, Pacific ocean perch, and other rockfish.

The apportionment of annual pollock TAC among the Western and Central Regulatory Areas of the GOA reflects the seasonal biomass distribution and is discussed in greater detail below. The annual pollock TAC in the Western and Central Regulatory Areas of the GOA is divided into four equal seasonal apportionments. Twenty-five percent of the annual TAC in the Western and Central Regulatory Areas of the GOA is apportioned to each of the A season (January 20 through February 25), the B season (March 10 through May 31), the C season (August 25 through September 15), and the D season (October 1 through November 1) in Statistical Areas 610, 620, and 630 of the GOA (see § 679.23(d)(2)(i) through (iv) and § 679.20(a)(5)(iii)(B)).

The 2004 Pacific cod TAC is affected by the state's developing fishery for Pacific cod in state waters in the Central and Western GOA, as well as in Prince William Sound (PWS). The SSC, AP, and Council recommended that the sum of all state and Federal water Pacific cod removals should not exceed the ABC. Accordingly, the Council recommended that Pacific cod TAC be reduced from ABC levels to account for State GHLs in each regulatory area of the GOA so that the TAC for (1) the Eastern GOA be lower than the ABC by 290 mt, (2) the Central GOA be lower than the ABC by 6,038 mt, and (3) the Western GOA be lower than the ABC by 4,662 mt. These amounts reflect the sum of State's 2004 GHLs in these areas, which are 10 percent, 23 percent, and 25 percent of the Eastern, Central, and Western GOA ABCs, respectively.

NMFS is also establishing seasonal apportionments of the annual Pacific cod TAC in the Western and Central Regulatory Areas at 60 percent of the annual TAC to the A season for hook-and-line, pot or jig gear from January 1 through June 10 and for trawl gear from January 20 through June 10; and at 40 percent of the annual TAC to the B season for hook-and-line, pot or jig gear from September 1 through December 31 and for trawl gear from September 1 through November 1 (see §§ 679.23(d)(3) and 679.20(a)(11)). These seasonal apportionments of the annual Pacific cod TAC are discussed in greater detail below.

The FMP specifies that the TAC for the “other species” category is calculated as 5 percent of the combined TAC amounts for target species. The 2004 GOA-wide “other species” TAC is 10,847 mt, which is 5 percent of the sum of the combined TAC amounts (216,950 mt) for the assessed target species. The sum of the TACs for all GOA groundfish is 227,797 mt, which is within the OY range specified by the FMP. The sum of the 2004 TACs is lower than the 2003 TAC sum of 236,440 mt. NMFS finds that the Council's recommendations for proposed OFL, ABC, and TAC amounts are consistent with the biological condition of groundfish stocks as adjusted for other biological and socioeconomic considerations, including maintaining the total TAC within the required OY range of 116,000 to 800,000 mt. The proposed 2004 ABCs, TACs, and OFLs are shown in Table 1.

In October 2003, the Council took final action on Amendment 63 to the GOA FMP. This action, if approved, would remove skates from the “other species” assemblage in the GOA and establish OFL and ABC levels for skates on an annual basis. The EA/RIR/IRFA for Amendment 63 is included in the EA/IRFA for the annual specifications and is available from NMFS (see ADDRESSES). The EA for Amendment 63 examines a range of alternatives for the management of skates in the GOA. The alternatives range from a single gulfwide OFL, ABC, and TAC for all skate species in the GOA to multiple OFLs, ABCs, and TACs by management area (the Western, Central, and Eastern GOA) and by skate species targeted in directed fisheries (big skate, longnose skate, and all other skate species). At its October meeting, the Council did not recommend specific amounts for the 2004 OFL, ABC, and TAC levels for skates in the GOA pending an updated skate assessment using the most recent data collected in 2003. The updated skate assessment will be included in the final 2003 SAFE report, which will not be available for the Council's consideration until December 2003. At that time, the Council will make final recommendations for skate OFL, ABC, and TAC amounts in the GOA for the 2004 fishing year. These will be reflected in the final harvest specifications for the 2004 fishing year.

Table 1.—Proposed 2004 ABCs, TACs, and Overfishing Levels of Groundfish for the Western/Central/West Yakutat (W/C/WYK), Western (W), Central (C), Eastern (E) Regulatory Areas, and in the West Yakutat (WYK), Southeast Outside (SEO), and Gulf-Wide (GW) Districts of the Gulf of Alaska
[Values are rounded to the nearest metric ton]
Species/Area ¹ | ABC | TAC | Overfishing
Pollock:²
Shumagin (610) | 16,788 | 16,788 |
Chirikof (620) | 19,685 | 19,685 |
Kodiak (630) | 10,339 | 10,339 |
WYK (640) | 1,078 | 1,078 |
Subtotal: W/C/WYK | 47,890 | 47,890 | 90,900
SEO (650) | 6,460 | 6,460 | 8,610
Total | 54,350 | 54,350 | 99,510
Pacific cod:³
W | 18,649 | 13,987 |
C | 26,254 | 20,215 |
E | 2,897 | 2,607 |
Total | 47,800 | 36,809 | 63,700
Flatfish ⁴ (deep-water):
W | 180 | 180 |
C | 2,220 | 2,220 |
WYK | 1,330 | 1,330 |
SEO | 1,150 | 1,150 |
Total | 4,880 | 4,880 | 6,430
Rex sole:
W | 1,280 | 1,280 |
C | 5,540 | 5,540 |
WYK | 1,600 | 1,600 |
SEO | 1,050 | 1,050 |
Total | 9,470 | 9,470 | 12,320
Flathead sole:
W | 14,916 | 2,000 |
C | 18,914 | 5,000 |
WYK | 2,634 | 2,634 |
SEO | 1,136 | 1,136 |
Total | 37,600 | 10,770 | 46,600
Flatfish ⁵ (shallow-water):
W | 23,480 | 4,500 |
C | 21,740 | 13,000 |
WYK | 1,160 | 1,160 |
SEO | 2,960 | 2,960 |
Total | 49,340 | 21,620 | 61,810
Arrowtooth flounder:
W | 18,670 | 8,000 |
C | 117,320 | 25,000 |
WYK | 18,877 | 2,500 |
SEO | 6,133 | 2,500 |
Total | 161,000 | 38,000 | 188,300
Sablefish ⁶
W | 1,968 | 1,968 |
C | 4,931 | 4,931 |
WYK | 1,776 | 1,776 |
SEO | 2,726 | 2,726 |
Subtotal E | 4,502 | 4,502 |
Total | 11,400 | 11,400 | 16,500
Pacific ⁷ ocean perch:
W | 2,728 | 2,700 |
C | 8,597 | 8,510 |
WYK | 818 | 810 |
SEO | 1,657 | 1,640 |
Subtotal E |  |  |
Total | 13,800 | 13,660 | 16,400
Short raker/rougheye: ⁸
W | 220 | 220 |
C | 840 | 840 |
E | 560 | 560
Total | 1,620 | 1,620 | 2,340
Other rockfish ⁹,¹⁰
W | 90 | 90 |
C | 550 | 550 |
WYK | 270 | 150 |
SEO | 4,140 | 200 |
Total | 5,050 | 990 | 6,610
Northern rockfish:¹⁰,¹²,¹⁵
W | 789 | 789 |
C | 4,111 | 4,111 |
E | N/A | N/A |
Total | 4,900 | 4,900 | 5,800
Pelagic shelf rockfish:¹³
W | 510 | 510 |
C | 3,480 | 3,480 |
WYK | 640 | 640 |
SEO | 860 | 860 |
Total | 5,490 | 5,490 | 8,220
Thornyhead rockfish:
W | 360 | 360 |
C | 840 | 840 |
E | 800 | 800 |
Total | 2,000 | 2,000 | 3,050
Demersal self rockfish:¹¹ SEO | 390 | 390 | 540
Atka mackerel: GW | 600 | 600 | 6,200
Other ¹⁴ species: | GW | N/A | 10,847
Total ¹⁶ | 409,690 | 227,797 | 544,330
¹ Regulatory areas and districts are defined at § 679.2.
² Pollock is apportioned in the Western/Central Regulatory areas among three statistical areas. During the A season, the apportionment is based on an adjusted estimate of the relative distribution of pollock biomass at 25 percent, 56 percent, and 19 percent in Statistical Areas 610, 620, and 630, respectively. During the B season, the apportionment is based on the relative distribution of pollock biomass at 25 percent, 66 percent, and 9 percent in Statistical Areas 610, 620, and 630, respectively. During the C and D seasons, the apportionment is based on the relative distribution of pollock biomass at 47 percent, 23 percent, and 30 percent in Statistical Areas 610, 620, and 630, respectively. These seasonal apportionments are shown in Table 3. In the West Yakutat and Southeast Outside Districts of the Eastern Regulatory Area, pollock is not divided into seasonal allowances.
³ The annual Pacific cod TAC is apportioned 60 percent to an A season and 40 percent to a B season in the Western and Central Regulatory Areas of the GOA. Pacific cod is allocated 90 percent for processing by the inshore component and 10 percent for processing by the offshore component. Seasonal apportionments and component allocations of TAC are shown in Table 4.
⁴ “Deep water flatfish” means Dover sole, Greenland turbot, and deepsea sole.
⁵ “Shallow water flatfish” means flatfish not including “deep water flatfish,” flathead sole, rex sole, or arrowtooth flounder.
⁶ Sablefish is allocated to trawl and hook-and-line gears (Table 2).
⁷ “Pacific ocean perch” means Sebastes alutus.
⁸ “Shortraker/rougheye rockfish” means Sebastes borealis (shortraker) and S. aleutianus (rougheye).
⁹ “Other rockfish” in the Western and Central Regulatory Areas and in the West Yakutat District means slope rockfish and demersal shelf rockfish. The category “other rockfish” in the Southeast Outside District means Slope rockfish.
¹⁰ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, “slope rockfish” also includes northern rockfish, S. polyspinous.
¹¹ “Demersal shelf rockfish” means Sebastes pinniger (canary), S. nebulosus (china), S. caurinus (copper), S. maliger (quillback), S. helvomaculatus (rosethorn), S. nigrocinctus (tiger), and S. ruberrimus (yelloweye).
¹² “Northern rockfish” means Sebastes polyspinis.
¹³ “Pelagic shelf rockfish” means Sebastes ciliatus (dusky), S. entomelas (widow), and S. flavidus (yellowtail).
¹⁴ “Other species” means sculpins, sharks, skates, squid, and octopus. The TAC for “other species” equals 5 percent of the TACs of assessed target species.
¹⁵ N/A means not applicable.
¹⁶ The total ABC and OFL is the sum of the ABCs and OFLs for assessed target species.

Proposed Apportionment of Reserves

Regulations implementing the FMP require 20 percent of each TAC for pollock, Pacific cod, flatfish, and the “other species” category be set aside in reserves for possible apportionment at a later date (see § 679.20(b)(2)). In 2003, NMFS reapportioned all of the reserves in the final harvest specifications. Between 1997 and 2000, NMFS retained the Pacific cod reserve to provide for a management buffer to account for excessive fishing effort and incomplete or late catch reporting. NMFS believes this is no longer necessary as estimates of catch and incidental catch needs in other directed fisheries have improved in recent years. For 2004, NMFS proposes apportionment of all of the reserve for pollock, Pacific cod, flatfish, and “other species”. Specifications of TAC shown in Table 1 reflect apportionment of reserve amounts for these species and species groups.

Proposed Allocations of the Sablefish TAC Amounts to Vessels Using Hook-and-Line and Trawl Gear

Under § 679.20(a)(4)(i) and (ii), sablefish TACs for each of the regulatory areas and districts are allocated to hook-and-line and trawl gear. In the Western and Central Regulatory Areas, 80 percent of each TAC is allocated to hook-and-line gear and 20 percent of each TAC is allocated to trawl gear. In the Eastern Regulatory Area, 95 percent of the TAC is allocated to hook-and-line gear and 5 percent is allocated to trawl gear. The trawl gear allocation in the Eastern Regulatory Area may only be used to support incidental catch of sablefish in directed fisheries for other target species. In recognition of the trawl ban in the SEO District of the Eastern Regulatory Area, the Council recommended that 5 percent of the combined Eastern GOA sablefish be allocated to trawl gear in the WYK District and the remainder to vessels using hook-and-line gear. In the SEO District, 100 percent of the sablefish TAC is allocated to vessels using hook-and-line gear. This recommendation results in an allocation of 225 mt to trawl gear and 1,551 mt to hook-and-line gear in the WYK District and 2,726 mt to hook-and-line gear in the SEO District. Table 2 shows the allocations of the proposed 2004 sablefish TACs between hook-and-line gear and trawl gear.

Table 2.—Proposed 2004 Sablefish TAC Specifications in the Gulf of Alaska and Allocations Thereof to Hook-and-Line and Trawl Gear
[Values are rounded to the nearest metric ton]
Area/District | TAC | Hook-and-line allocation | Trawl allocation
Western | 1,968 | 1,574 | 394
Central | 4,931 | 3,945 | 986
West Yakutat | 1,776 | 1,551 | 225
Southeast Outside | 2,726 | 2,726 | 0
Total | 11,400 | 9,796 | 1,605

Proposed Apportionments of Pollock TAC Among Seasons and Regulatory Areas, and Allocations for Processing by Inshore and Offshore Components

In the GOA, pollock is apportioned by season and area, and is further allocated for processing by inshore and offshore components. Under regulations at § 679.20(a)(5)(iii)(B), the annual pollock TAC specified for the Western and Central Regulatory Areas of the GOA is apportioned into four equal seasonal allowances of 25 percent. As established by § 679.23(d)(2)(i) through (iv), the A, B, C, and D season allowances are available from January 20 through February 25, March 10 through May 31, August 25 through September 15, and October 1 through November 1, respectively.

Pollock TACs in the Western and Central Regulatory Areas of the GOA in the A and B seasons are apportioned among statistical areas 610, 620, and 630 in proportion to the distribution of pollock biomass as determined by a composite of NMFS winter surveys and in the C and D seasons in proportion to the distribution of pollock biomass as determined by the four most recent NMFS summer surveys. As in 2003, the Council recommended that during the A season, the winter and summer distribution of pollock be averaged in the Central Regulatory Area to better reflect the distribution of pollock and the performance of the fishery in the area during the A season. Within any fishing year, the underage or overage of a seasonal apportionment may be added to or subtracted from subsequent seasonal apportionments in a manner to be determined by the Regional Administrator, Alaska Region, NMFS, provided that the sum of the revised seasonal allowances does not exceed 30 percent of the annual TAC apportionment for the Central and Western Regulatory Areas in the GOA (§ 679.20(a)(5)(iii)(B)). For 2004, 30 percent of the proposed annual TAC for the Central and Western Regulatory Areas is 14,044 mt. The WYK and SEO District pollock TACs of 1,078 mt and 6,460 mt, respectively, are not allocated seasonally.

Regulations at § 679.20(a)(6)(i) require that 100 percent of the pollock TAC in all regulatory areas and all seasonal allowances thereof be allocated to vessels catching pollock for processing by the inshore component after subtraction of amounts that are projected by the Regional Administrator to be caught by, or delivered to, the offshore component incidental to directed fishing for other groundfish species. The amount of pollock available for harvest by vessels harvesting pollock for processing by the offshore component is that amount actually taken as incidental catch during directed fishing for groundfish species other than pollock, up to the maximum retainable amounts allowed under regulations at § 679.20(e) and (f). At this time, these incidental catch amounts are unknown and will be determined during the fishing year.

The proposed seasonal biomass distribution of pollock in the Western and Central GOA, area apportionments, and seasonal allowances for the A, B, C, and D seasons are summarized in Table 3.

Table 3.—Proposed Distribution of Pollock in the Central and Western Regulatory Areas of the Gulf of Alaska; Seasonal Biomass Distribution, Area Apportionments; and Seasonal Allowances of Annual TAC in 2004
[Values are rounded to the nearest metric ton]
Season | Shumagin (Area 610) (biomass distribution) | Chirikof (Area 620) (biomass distribution) | Kodiak (Area 630) (biomass distribution) | Total (biomass distribution)
A | 2,894 (25%) | 6,535 (56%) | 2,274 (19%) | 11,703 (100%)
B | 2,894 (25%) | 7,778 (66%) | 1,031 (9%) | 11,703 (100%)
C | 5,500 (47%) | 2,686 (23%) | 3,517 (30%) | 11,703 (100%)
D | 5,500 (47%) | 2,686 (23%) | 3,517 (30%) | 11,703 (100%)
Annual Total | 16,788 | 19,685 | 10,339 | 46,812

Proposed Seasonal Apportionments of Pacific Cod TAC and Allocations for Processing of Pacific Cod TAC Between Inshore and Offshore Components

Pacific cod fishing is divided into two seasons in the Western and Central Regulatory Areas of the GOA. For hook-and-line, pot and jig gear, the A season is January 1 through June 10, and the B season is September 1 through December 31. For trawl gear, the A season is January 20 through June 10, and the B season is September 1 through November 1, (§ 679.23(d)(3)). After subtraction of incidental catch, 60 percent and 40 percent of the annual TAC will be available for harvest during the A and B seasons, respectively, and will be apportioned between the inshore and offshore processing components as provided in § 679.20(a)(6)(ii). Between the A and the B seasons, directed fishing for Pacific cod is closed and fishermen participating in other directed fisheries may retain Pacific cod up to the maximum retainable amounts allowed under regulations at § 679.20(e) and (f). For purposes of clarification, NMFS points out that the dates for the A season and the B season Pacific cod fisheries differ from those of the A, B, C, and D seasons for the pollock fisheries. In accordance with § 679.20(a)(11)(ii), any overage or underage of Pacific cod harvest from the A season may be subtracted from or added to the subsequent B season.

Regulations at § 679.20(a)(6)(ii) require that the TAC apportionment of Pacific cod in all regulatory areas be allocated to vessels catching Pacific cod for processing by the inshore and offshore components. Ninety percent of the Pacific cod TAC in each regulatory area is allocated to vessels catching Pacific cod for processing by the inshore component. The remaining 10 percent of the TAC is allocated to vessels catching Pacific cod for processing by the offshore component. These seasonal apportionments and allocations of the proposed 2004 Pacific cod TAC are shown in Table 4.

Table 4.—Proposed 2004 Seasonal Apportionments and Allocation of Pacific cod TAC Amounts in the Gulf of Alaska; Allocations for Processing by the Inshore and Offshore Components
[Values are rounded to the nearest metric ton]
Season | Regulatory area | TAC | Component allocation: Inshore (90%) | Component allocation: Offshore (10%)
| Western | 13,987 | 12,588 | 1,399
A Season (60%) |  | 8,392 | 7,553 | 839
B Season (40%) |  | 5,595 | 5,035 | 560
| Central | 20,215 | 18,193 | 2,022
A Season (60%) |  | 12,129 | 10,916 | 1,213
B Season (40%) |  | 8,086 | 7,277 | 809
| Eastern | 2,607 | 2,346 | 261
Total |  | 36,809 | 33,127 | 3,682

“Other Species” TAC

The FMP specifies that the amount for the “other species” category is calculated as 5 percent of the combined TAC amounts for target species. The GOA-wide “other species” TAC is calculated as 10,847 mt, which is 5 percent of the sum of combined TAC amounts for the target species. As discussed above, if Amendment 63 is approved, skates would be removed from the “other species” assemblage and the Council would recommend final OFL, ABC, and TAC amounts for skates and an adjusted TAC for the “other species” category for the 2004 fishing year in the final 2004 harvest specifications for groundfish in the GOA.

Proposed Pacific Halibut PSC Mortality Limits

Under § 679.21(d), annual Pacific halibut PSC limits are established and apportioned to trawl and hook-and-line gear and may be established for pot gear. In October 2003, the Council recommended to maintain the 2003 halibut PSC limits of 2,000 mt for the trawl fisheries and 300 mt for the hook-and-line fisheries, with 10 mt of the hook-and-line limit allocated to the demersal shelf rockfish (DSR) fishery in the Southeast Outside District and the remainder to the remaining hook-and-line fisheries. NMFS concurs with this recommendation. The DSR fishery is defined at § 679.21(d)(4)(iii)(A) and historically has been apportioned this amount in recognition of its small scale harvests. Although observer data are not available to verify actual bycatch amounts because most vessels in the DSR fishery are less than 60 ft (18.3 m) length overall (LOA) and are exempt from observer coverage, halibut bycatch in the DSR fishery is assumed to be low because of the short gear soak times and duration of the DSR fishery. Also, the DSR fishery occurs in the winter when less overlap occurs in the distribution of DSR and halibut. If Amendment 63, which removes skates from the “other species” assemblage is approved, the Council, at its December 2003 meeting, may recommend a separate halibut PSC allowance for hook-and-line gear in the skates fishery for 2004.

Regulations at § 679.21(d)(4) authorize exemption of specified nontrawl fisheries from the halibut PSC limit. The Council recommended that pot gear, jig gear, and the hook-and-line sablefish fishery be exempted from the nontrawl halibut limit for 2004. The Council recommended these exemptions because the low halibut bycatch mortality experienced in the pot gear fisheries (4 mt in 2001, 2 mt in 2002, and 14 mt in 2003), and because of the 1995 implementation of the sablefish and halibut Individual Fishing Quota (IFQ) program that requires legal-sized halibut to be retained by vessels using hook-and-line gear if a halibut IFQ permit holder is aboard and is holding unused halibut IFQ. This provision results in reduced halibut discard in the sablefish fishery. Halibut mortality for the jig gear fleet cannot be estimated because these vessels do not carry observers. However, halibut mortality is assumed to be very low given the small amount of groundfish harvested by this gear type (336 mt in 2001, 277 mt in 2002, and 294 mt in 2003) and the assumed high survival rate of any halibut that are incidentally taken by jig gear and released. Because of these reasons, NMFS concurs with the Council's recommendations.

Under § 679.21(d)(5), NMFS seasonally apportions the halibut PSC limits based on recommendations from the Council. The FMP and regulations require that the following information be considered by the Council and NMFS in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry.

The final rule establishing the final 2003 groundfish and PSC specifications (68 FR 9924, March 3, 2003) summarizes Council and NMFS findings with respect to each of the FMP considerations set forth above. At this time, the Council's and NMFS’ findings are unchanged from those set forth in 2003. Proposed Pacific halibut PSC limits, and apportionments thereof, are presented in Table 5. Regulations at § 679.21(d)(5)(iii) and (iv) specify that any overages or shortfalls in a seasonal apportionment of a PSC limit will be deducted from or added to the next respective seasonal apportionment within the 2004 fishing year.

Table 5.—Proposed 2004 Pacific Halibut PSC Limits, Allowances, and Apportionments
[The Pacific halibut PSC limit for hook-and-line gear is allocated to the demersal shelf rockfish (DSR) fishery and fisheries other than DSR. The hook-and-line sablefish fishery is exempt from halibut PSC limits. (Values are in metric tons)]
Trawl gear: Dates | Trawl gear: Amount | Hook-and-line gear: Other than DSR: Dates | Hook-and-line gear: Other than DSR: Amount | Hook-and-line gear: DSR: Dates | Hook-and-line gear: DSR: Amount
January 20-April 1 | 550 (27.5%) | January 1-June 10 | 250 (86%) | January-December 31 | 10 (100%)
April 1-July 4 | 400 (20%) | June 10-September 1 | 5 (2%) |  |
July 4-September 1 | 600 (30%) | September 1 -December 31 | 35 (12%) |  |
September 1-October 1 | 150 (7.5%) |  |  |  |
October 1-December 31 | 300 (15%) |  |  |  |
Total | 2,000 (100%) |  | 290 (100%) |  | 10 (100%)

Regulations at § 679.21(d)(3)(ii) authorize apportionments of the trawl halibut PSC limit to be further apportioned to trawl fishery categories, based on each category's proportional share of the anticipated halibut bycatch mortality during a fishing year and the need to optimize the amount of total groundfish harvest under the halibut PSC limit. The fishery categories for the trawl halibut PSC limits are: deep-water species complex, comprised of sablefish, rockfish, deep-water flatfish, rex sole and arrowtooth flounder; and shallow-water species complex, comprised of pollock, Pacific cod, shallow-water flatfish, flathead sole, Atka mackerel, and “other species” (§ 679.21(d)(3)(iii)). The proposed apportionment for these two fishery complexes is presented in Table 6.

Table 6.—Proposed 2004 Apportionment of Pacific Halibut PSC Trawl Limits Between the Trawl Gear Deep-Water Species Complex and the Shallow-Water Species Complex
[Values are in metric tons]
Season | Shallow-water | Deep-water | Total
January 20-April 1 | 450 | 100 | 550
April 1-July 4 | 100 | 300 | 400
July 4-September 1 | 200 | 400 | 600
September 1-October 1 | 150 | (¹) | 150
Subtotal:
January 20-October 1 | 900 | 800 | 1,700
October 1-December 31 |  |  | 300
Total |  |  | 2,000
¹ No apportionment between shallow-water and deep-water fishery complexes during the 5th season (October 1-December 31).

Based on public comment and information contained in the final 2003 SAFE report, which will be available in December 2003, the Council may recommend, or NMFS may make, some changes in the seasonal, gear-type, and fishing-complex apportionments of halibut PSC limits for the final 2004 harvest specifications. NMFS will consider the following types of information in setting final halibut PSC limits.

(A) Estimated Halibut Bycatch in Prior Years

The best available information on estimated halibut bycatch is data collected by observers during 2003. The calculated halibut bycatch mortality by trawl, hook-and-line, and pot gear through October 11, 2003, is 1,915 mt, 294 mt, and 14 mt, respectively, for a total halibut mortality of 2,223 mt.

Halibut bycatch restrictions seasonally constrained trawl and hook-and-line gear fisheries during the 2003 fishing year. Trawling was closed during the second season for the shallow-water complex on June 19 (68 FR 37094, June 23, 2003), during the fourth season for the shallow-water complex on September 12 (68 FR 54395, September 17, 2003), during the second season for the deep-water fishery complex on May 16 (68 FR 27479, May 20, 2003), and during the fifth season for all trawling on October 15 (68 FR 59889, October 20, 2003). The use of hook-and-line gear for groundfish other than DSR and sablefish closed during the second season on August 1 (68 FR 46502, August 6, 2003) and for the remainder of the year on September 28 (68 FR 56788, October 2, 2003).

The amount of the groundfish TACs that vessels using trawl gear might have harvested if halibut catch limitations had not restricted the season in 2003 is unknown.

(B) Expected Changes in Groundfish Stocks

Proposed 2004 ABCs for arrowtooth flounder and Pacific ocean perch are higher than those established for 2003. Proposed 2004 ABCs are lower for Pacific cod, flathead sole, sablefish, and northern rockfish than those established for 2003. Proposed 2004 ABC levels for the remaining target species are unchanged from 2003. More information on these changes is included in the final SAFE report (November 2002) and in the Council and SSC October 2003 meeting minutes.

(C) Expected Changes in Groundfish Catch

The total of the proposed 2004 TACs for the GOA is 227,797 mt, a decrease of 3.7 percent from the 2003 TAC total of 236,440 mt. Those fisheries for which the 2004 TACs are lower than in 2003 are Pacific cod (decreased to 36,809 mt from 40,540 mt), flathead sole (decreased to 10,770 mt from 11,150 mt), sablefish (decreased to 11,400 mt from 14,890 mt), northern rockfish (decreased to 4,900 mt from 5,530 mt), and “other species” (decreased to 10,847 mt from 11,260 mt). There are no species for which the proposed 2004 TACs are higher than in 2003.

(D) Current Estimates of Halibut Biomass and Stock Condition

The International Pacific Halibut Commission (IPHC) conducted the most recent halibut stock assessment in December 2002. The halibut resource is considered to be healthy, with total catch near record levels. The current exploitable halibut biomass for 2003 is estimated to be 263,086 mt. This is similar to the estimate of 273,950 mt in 2002.

The exploitable biomass of the Pacific halibut stock apparently peaked at 326,520 mt in 1988. According to the IPHC, the long-term average reproductive biomass for the Pacific halibut resource was estimated at 118,000 mt. Long-term average yield was estimated at 26,980 mt, round weight. The species is fully utilized. Recent average catches (1994-96) were 33,580 mt for the U.S. and 6,410 mt for Canada, for a combined total of 39,990 mt for the entire Pacific halibut resource. This catch was 48 percent higher than long-term potential yield, which reflects the good condition of the Pacific halibut resource. In January 2003, the IPHC recommended commercial catch limits totaling 36,812 mt (round weight) for Alaska in 2003, the same as in 2002. Through December 31, 2002, commercial hook-and-line harvests of halibut in Alaska total 37,219 mt (round weight).

At its January 2003 meeting, IPHC staff reported on the assessment of the halibut stock in 2002. There were some significant technological changes in the assessment as a result of changes in the underlying data being analyzed and the persistence of smaller sizes at age in the central portion of the halibut range. Analyses were conducted for the 2002 assessment to ensure that the stock is not being overharvested. However, the IPHC staff intends to resolve these technical issues with the assessment in 2003. In addition, IPHC staff are investigating a new harvest policy that may result in greater stability in the yield from the fishery and insulate the process of setting catch limits from technological changes in the assessment. This harvest policy will also be reviewed by the IPHC. The resolution of technical issues of the assessment may indicate a larger estimate of biomass in the central region of the stock distribution, but application of the proposed harvest policy might dictate slightly lower yields. Because these two processes may be somewhat counterbalancing, IPHC staff intend to complete their investigations before recommending any changes to the present catch limits or the harvest policy. While the trajectory of the halibut stock biomass is downward, the biomass is still above the long-term average level and is expected to remain above this level for the next several years.

Additional information on the Pacific halibut stock assessment and the proposed harvest policy may be found in the IPHC's 2002 Pacific halibut stock assessment (December 2002), available from the IPHC on its Web site at http:///www.iphc.washington.edu/hal.com. IPHC will consider the 2003 Pacific halibut stock assessment for 2004 at its January 2004 annual meeting when it sets the 2004 commercial halibut fishery quotas.

(E) Other Factors

The allowable commercial catch of halibut will be adjusted to account for the overall halibut PSC mortality limit established for groundfish fisheries. The 2004 groundfish fisheries are expected to use the entire proposed halibut PSC limit of 2,300 mt. The allowable directed commercial catch is determined by accounting for the recreational and subsistence catch, waste, and bycatch mortality and then providing the remainder to the directed fishery. Groundfish fishing is not expected to adversely affect the halibut stocks.

Methods available for reducing halibut bycatch include:

(1) Reducing halibut bycatch rates through the Vessel Incentive Program (described below); (2) publication of individual vessel bycatch rates on the NMFS Alaska Region home page at www.fakr.noaa.gov; (3) modifications to gear; (4) changes in groundfish fishing seasons; (5) individual transferable quota programs; and (6) time/area closures.

Reductions in groundfish TAC amounts provide no incentive for fishermen to reduce bycatch rates. Costs that would be imposed on fishermen as a result of reducing TAC amounts depend on the species and amounts of groundfish foregone.

Trawl vessels carrying observers for purposes of complying with observer coverage requirements (§ 679.50) are subject to the Vessel Incentive Program. This program encourages trawl fishermen to avoid high halibut bycatch rates while conducting groundfish fisheries by specifying bycatch rate standards for various target fisheries.

Current regulations (see § 679.2 Authorized fishing gear, number 12) specify requirements for biodegradable panels and tunnel openings for groundfish pots to reduce halibut bycatch. As a result, low bycatch and mortality rates of halibut in pot fisheries have justified exempting pot gear from PSC limits.

The regulations also define pelagic trawl gear in a manner intended to reduce bycatch of halibut by displacing fishing effort off the bottom of the sea floor when certain halibut bycatch levels are reached during the fishing year. The definition provides standards for physical conformation (§ 679.2, see Authorized fishing gear number (11)) and performance of the trawl gear in terms of crab bycatch (§ 679.7(a)(14)). Furthermore, all hook-and-line vessel operators are required to employ careful release measures when handling halibut bycatch (§ 679.7(a)(13)). These measures are intended to reduce handling mortality, thereby lowering overall halibut bycatch mortality in the groundfish fisheries, and to increase the amount of groundfish harvested under the available halibut mortality bycatch limits.

NMFS and the Council will review the methods available for reducing halibut bycatch listed here to determine their effectiveness, and will initiate changes, as necessary, in response to this review or to public testimony and comment.

Halibut Discard Mortality Rates

The Council recommended that the recommended halibut discard mortality rates (DMRs) developed by the staff of the IPHC for the 2003 GOA groundfish fisheries be used to monitor halibut bycatch mortality limits established for the 2004 GOA groundfish fisheries. NMFS concurs with this recommendation. The IPHC recommended use of long-term average DMRs for the 2001-2003 groundfish fisheries. The IPHC also recommended a provision that DMRs could be revised should analysis indicate that a fishery's annual DMR diverges substantially (up or down) from the long-term average. Most of the IPHC's assumed DMRs were based on an average of mortality rates determined from NMFS observer data collected between 1990 and 1999. DMRs were lacking for some fisheries, so rates from the most recent years were used. For the “other species” fishery, where insufficient mortality data are available, the mortality rate of halibut caught in trawl, hook-and-line, and pot gear Pacific cod fisheries were recommended as a default rate. The DMRs proposed for 2004 are unchanged from those used in 2003 in the GOA. The proposed DMRs for hook-and-line targeted fisheries range from 8 to 24 percent. The proposed DMRs for trawl targeted fisheries range from 58 to 72 percent. The proposed DMRs for all pot targeted fisheries is 14 percent. The proposed 2004 DMRs are listed in Table 7. The justification for these proposed DMRs is discussed in Appendix A of the final SAFE report dated November 2002.

Table 7.—Proposed 2004 Pacific Halibut Discard Mortality Rates for Vessels Fishing in the Gulf of Alaska
[Listed values are percent of halibut bycatch assumed to be dead]
Gear/Target | Mortality rate
Hook-and-line:
Pacific cod | 14
Rockfish | 8
Other species | 14
Sablefish | 24
Trawl:
Pelagic pollock | 72
Rockfish | 69
Shallow-water flatfish | 69
Pacific cod | 61
Deep-water flatfish | 60
Flathead sole | 58
Rex sole | 61
Non pelagic pollock | 61
Arrowtooth flounder | 62
Atka mackerel | 70
Sablefish | 66
Other species | 61
Pot:
Pacific cod | 14
Other species | 14

Non-exempt American Fisheries Act (AFA) Catcher Vessel Groundfish Harvest and PSC Limitations

One of the provisions implemented by AFA regulations was to place groundfish harvesting and processing limitations, also called sideboards, on AFA catcher/processors and catcher vessels in the GOA. These limitations are considered necessary for fishermen and processors who have received exclusive harvesting and processing privileges under the AFA to protect the interests of fishermen and processors who have not directly benefitted from the AFA. Under the AFA regulations, AFA catcher/processors (§ 679.4 (l)(2)(i)) are prohibited from fishing for any species of fish (§ 679.7(k)(1)(ii)) and from processing any groundfish harvested in Statistical Area 630 of the GOA (§ 679.7(k)(1)(iv)). The Council recommended that certain AFA catcher vessels in the GOA be exempt from groundfish harvest limitations. Exempted AFA catcher vessels in the GOA are those less than 125 ft (38.1 m) LOA whose annual Bering Sea and Aleutian Islands management area (BSAI) pollock landings totaled less than 5,100 mt and that made 40 or more GOA groundfish landings from 1995 through 1997 (§ 679.64(b)(2)(ii)).

For non-exempt AFA catcher vessels in the GOA, harvest limitations are based on their traditional harvest levels of TAC in groundfish fisheries covered by the GOA FMP. The amounts of the groundfish harvest limits in the GOA are based on the retained catch of non-exempt AFA catcher vessels of each sideboard species from 1995 through 1997 divided by the TAC for that species over the same period (§ 679.64(b)(3)(iii)). These amounts are listed in Table 8. All harvests of sideboard species made by non-exempt AFA catcher vessels, whether as targeted catch or bycatch, will be deducted from the sideboard limits in Table 8.

Table 8.—Proposed 2004 GOA Non-Exempt American Fisheries Act Catcher Vessel (CV) Groundfish Harvest Sideboard Limitations
[Values are in metric tons]
Species/apportionments and allocations by area-season-processor-gear | Ratio of 1995-1997 non-exempt AFA CV catch to 1995-1997 TAC | 2004 TAC | 2004 non-exempt AFA catcher vessel sideboard
Pollock: | A Season (W/C areas only) January 20-February 25:
Shumagin (610) | 0.6112 | 2,894 | 1,769
Chirikof (620) | 0.1427 | 6,535 | 933
Kodiak (630) | 0.2438 | 2,274 | 554
B Season (W/C areas only) March 10-June 1:
Shumagin (610) | 0.6112 | 2,894 | 1,769
Chirikof (620) | 0.1427 | 7,778 | 1,110
Kodiak (630) | 0.2438 | 1,031 | 251
C Season (W/C areas only) August 25-September 15:
Shumagin (610) | 0.6112 | 5,500 | 3,362
Chirikof (620) | 0.1427 | 2,686 | 383
Kodiak (630) | 0.2438 | 3,517 | 857
D Season (W/C areas only) October 1-November 1:
Shumagin (610) | 0.6112 | 5,550 | 3,362
Chirikof (620) | 0.1427 | 2,686 | 383
Kodiak (630) | 0.2438 | 3,517 | 857
Annual:
WYK (640) | 0.3499 | 1,078 | 377
SEO (650) | 0.3499 | 6,460 | 2,260
Pacific cod:
A Season ¹, January 1-June 10:
W inshore | 0.1423 | 7,553 | 1,075
W offshore | 0.1026 | 839 | 86
C inshore | 0.0722 | 10,916 | 788
C offshore | 0.0721 | 1,213 | 87
B Season ², September 1-December 31:
W inshore | 0.1423 | 5,035 | 716
W offshore | 0.1026 | 560 | 57
C inshore | 0.0722 | 7,277 | 525
C offshore | 0.0721 | 809 | 58
Annual:
E inshore | 0.0079 | 2,346 | 19
E offshore | 0.0078 | 261 | 2
Flatfish deep-water:
W | 0.0000 | 180 | 0
C | 0.0670 | 2,220 | 149
E | 0.0171 | 2,480 | 42
Rex sole:
W | 0.0010 | 1,280 | 1
C | 0.0402 | 5,540 | 223
E | 0.0153 | 2,650 | 41
Flathead sole :
W | 0.0036 | 2,000 | 7
C | 0.0261 | 5,000 | 131
E | 0.0048 | 3,770 | 18
Flatfish shallow-water:
W | 0.0156 | 4,500 | 70
C | 0.0598 | 13,000 | 777
E | 0.0126 | 4,120 | 52
Arrowtooth flounder:
W | 0.0021 | 8,000 | 17
C | 0.0309 | 25,000 | 773
E | 0.0020 | 5,000 | 10
Sablefish:
W trawl gear | 0.0000 | 394 | 0
C trawl gear | 0.0720 | 986 | 71
E trawl gear | 0.0488 | 225 | 11
Pacific ocean perch:
W | 0.0623 | 2,700 | 168
C | 0.0866 | 8,510 | 737
E | 0.0466 | 2,450 | 114
Shortraker/Rougheye
W | 0.0000 | 220 | 0
C | 0.0237 | 840 | 20
E | 0.0124 | 560 | 7
Other rockfish:
W | 0.0034 | 90 | 0
C | 0.2065 | 550 | 114
E | 0.0000 | 350 | 0
Northern rockfish:
W | 0.0003 | 789 | 0
C | 0.0336 | 4,111 | 150
Pelagic shelf rockfish:
W | 0.0001 | 510 | 0
C | 0.0000 | 3,480 | 0
E | 0.0067 | 1,500 | 10
Thornyhead rockfish:
W | 0.0308 | 360 | 11
C | 0.0308 | 840 | 26
E | 0.0308 | 800 | 25
Demersal shelf rockfish: SEO | 0.0020 | 390 | 1
Atka mackerel: Gulfwide | 0.0309 | 600 | 19
Other species: Gulfwide | 0.0090 | 10,847 | 98
¹ The Pacific cod A season for trawl gear does not open until January 20.
² The Pacific cod B season for trawl gear closes November 1.

PSC bycatch limits for non-exempt AFA catcher vessels in the GOA are based on the ratio of aggregate retained groundfish catch by non-exempt AFA catcher vessels in each PSC target category from 1995 through 1997 relative to the retained catch of all vessels in that fishery from 1995 through 1997 (§ 679.64(b)(4)). These amounts are shown in Table 9.

Table 9.—Proposed 2004 Non-Exempt American Fisheries Act Catcher Vessel Prohibited Species Catch (PSC) Limits for the GOA
[Values are in metric tons]
PSC species/Season | Target fishery | Ratio of 1995-1997 non-exempt AFA CV retained catch to total retained catch | 2004 PSC limit | 2004 non-exempt AFA catcher vessel PSC limit
Halibut (mortality in mt):
Trawl 1st Seasonal Allowance | Shallow water targets | 0.340 | 450 | 153
January 20-April 1 | Deep water targets | 0.070 | 100 | 7
Trawl 2nd Seasonal Allowance | Shallow water targets | 0.340 | 100 | 34
April 1-July 4 | Deep water targets | 0.070 | 300 | 21
Trawl 3rd Seasonal Allowance | Shallow water targets | 0.340 | 200 | 68
July 4-September 1 | Deep water targets | 0.070 | 400 | 38
Trawl 4th Seasonal Allowance | Shallow water targets | 0.340 | 150 | 51
September 1-October 1 | Deep water targets | 0.070 | 0 | 0
Trawl 5th Seasonal Allowance | All targets | 0.205 | 300 | 61
October 1-December 31 | ......do | 0.205 | 300 | 61

Classification

This action is authorized under 50 CFR 679.20 and is exempt from review under Executive Order 12866.

NMFS prepared an IRFA for this action in accordance with the provisions of the Regulatory Flexibility Act (RFA) of 1980, as amended by the Small Business Regulatory Enforcement Fairness Act of 1996 (5 U.S.C. Section 603(b)). A copy of this analysis is available from the Council (see ADDRESSES). This IRFA evaluates the effects of the proposed action on regulated small entities. The reasons for the action, a statement of the objectives of the action, and the legal basis for the proposed rule, are discussed earlier in the preamble.

The small entities affected by this action are those that commercially harvest groundfish under the GOA FMP. Data in the IRFA indicates that 1,115 catcher vessels and 21 catcher-processors may be “small entities” under the terms of the RFA.

Using the sectoral first wholesale gross revenue changes as an index the preferred alternative seems to have adverse impacts in the GOA sablefish and Pacific cod sectors. There do not appear to be other adverse impacts associated with the preferred alternative. The model suggests that there will be revenue reductions for flathead sole, rockfish, and other species. However, as reported in the IRFA, the projected revenue reductions for these species appear to be relatively small percentages of the prior year (2003) gross revenue estimates. Given the large confidence intervals believed to be associated with these estimates, these are thought to be minor impacts.

Harvest records indicate that 498 vessels harvested sablefish in the GOA in excess of the minimum harvest threshold adopted to select vessels for the analysis. Of these, 482 were small entities, with revenues under the $3.5 million gross revenues threshold used by the Small Business Administration (SBA) for catcher vessels. These small vessels harvested about 12,395 mt of sablefish in all their sablefish fisheries (some of this tonnage may have come from operations in the BSAI). Another 56 vessels harvested amounts of sablefish below the minimum harvest threshold; these vessels only harvested a total of about 10 mt of sablefish. The 482 small vessels above the threshold averaged about $439,000 in all their fisheries (groundfish, crab, scallops, salmon and herring) in Alaska, and about $121,000 from all their sablefish in Alaska. If the small entity revenue reduction is proportionate to the overall first wholesale “index” reduction in the area, and if the small entities catch all of their sablefish in the GOA, the small entity revenue reduction would be about $28,000. This would be about 23.4 percent of their sablefish revenues, and about 6.5 percent of their overall revenues.

Harvest records indicate that 578 vessels harvested Pacific cod in the GOA in excess of the minimum harvest criterion adopted to select vessels for the analysis. Of these, 562 were small entities according to the $3.5 million in gross revenues criteria used by the SBA for catcher vessels. These small vessels harvested about 51,000 mt of Pacific cod in all their Pacific cod fisheries (some of these revenues may have come from operations in the BSAI). Another 263 vessels harvested amounts of Pacific cod below the minimum harvest threshold; these vessels only harvested a total of about 40 mt of Pacific cod. The 562 vessels above the threshold averaged about $331,000 in all their fisheries (groundfish, crab, scallops, salmon and herring) in Alaska, and about $98,000 from all their Pacific cod in Alaska. If the small entity revenue reduction is proportionate to the overall first wholesale “index” reduction in the area, and if the small entities catch all of their Pacific cod in the GOA, the small entity revenue reduction would be about $9,000. This would be about 9.2 percent of their Pacific cod revenues, and about 2.7 percent of their overall revenues.

The preferred alternative was compared to the four other alternatives evaluated during the specifications process. These alternatives are defined by TACs set so as to generate different harvest rates (F values). Alternative 1 sets TAC to generate the harvest rate associated with the maximum ABC for each species, Alternative 2 is the preferred alternative, Alternative 3 sets TACs to generate fishing rates that are half those of Alternative 1, Alternative 4 sets TACs to generate fishing rates equal to the most recent five year average rates, and Alternative 5 sets TACs equal to zero. Only Alternative 1 had a smaller adverse impact on small entities than the preferred alternative. However, Alternative 1 would have increased sablefish and Pacific cod harvests and would have failed to meet the objective of protecting the long run health of these stocks.

The action does not impose new recordkeeping or reporting requirements on small entities. The analysis did not reveal any Federal rules that duplicate, overlap or conflict with the proposed action.

Authority: 16 U.S.C. 773 et seq. 16 U.S.C 1801 et seq., and 3631 et seq.

Dated: December 1, 2003.
William T. Hogarth,
Assistant Administrator for Fisheries, National Marine Fisheries Service.

[FR Doc. 03-30283 Filed 12-4-03; 8:45 am]

BILLING CODE 3510-22-P